DEPARTMENT OF ENERGY

Federal Energy Regulatory Commission

Notice of Attendance at NYISO Meetings

The Federal Energy Regulatory Commission hereby gives notice that members of the Commission and Commission staff may attend upcoming New York Independent System Operator, Inc. (NYISO) meetings, as well as other subcommittee or working group meetings that are not currently scheduled, but that are typically scheduled on short notice or meetings that are scheduled on short notice based on items arising from the agenda as posted on the NYISO Web site.¹ The Commission and Commission staff may attend the following meetings:

¹ NYISO Subcommittees, Task Forces, and Working Groups of the three primary committees (Management, Business Issues, and Operating) meet on a variety of topics; they convene and dissolve on an as-needed basis. Therefore, staff may monitor different working groups as issues arise and according to postings on the NYISO Web site.

NYISO Business Issues Committee

• March 9, 2011 (Rensselaer, NY)

• April 13, 2011 (Rensselaer, NY)

• May 11, 2011 (Rensselaer, NY)

• June 1, 2011 (Rensselaer, NY)

• July 13, 2011 (Rensselaer, NY)

• August 10, 2011 (Rensselaer, NY)

• September 14, 2011 (Rensselaer, NY)

• October 12, 2011 (Rensselaer, NY)

• November 9, 2011 (Rensselaer, NY)

• December 14, 2011 (Rensselaer, NY)

NYISO Management Committee

• March 30, 2011 (Rensselaer, NY)

• April 27, 2011 (Rensselaer, NY)

• May 25, 2011 (Rensselaer, NY)

• June 14, 2011 (Rensselaer, NY)

• July 27, 2011 (Rensselaer, NY)

• August 31, 2011 (Rensselaer, NY)

• September 27, 2011 (Rensselaer, NY)

• October 26, 2011 (Rensselaer, NY)

• November 23, 2011 (Rensselaer, NY)

• December 21, 2011 (Rensselaer, NY)

NYISO ICAP Working Group

• March 10, 2011 (Rensselaer, NY)

• March 18, 2011 (Rensselaer, NY)

• March 24, 2011 (Rensselaer, NY)

• April 18, 2011 (Rensselaer, NY)

• May 16, 2011 (Rensselaer, NY)

• July 11, 2011 (Rensselaer, NY)

• August 19, 2011 (Rensselaer, NY)

• September 12, 2011 (Rensselaer, NY)

• October 17, 2011 (Rensselaer, NY)

• November 14, 2011 (Rensselaer, NY)

NYISO Operating Committee

• March 17, 2011 (Rensselaer, NY)

• April 14, 2011 (Rensselaer, NY)

• May 12, 2011 (Rensselaer, NY)

• June 2, 2011 (Rensselaer, NY)

• July 14, 2011 (Rensselaer, NY)

• August 11, 2011 (Rensselaer, NY)

• September 15, 2011 (Rensselaer, NY)

• October 13, 2011 (Rensselaer, NY)

• November 30, 2011 (Rensselaer, NY)

• December 15, 2011 (Rensselaer, NY)

NYISO Transmission Planning Advisory Subcommittee

• Various dates

NYISO Budget and Priorities Working Group

• Various dates

NYISO Credit Policy Task Force

• Various dates

NYISO Price Responsive Load Working Group

• Various dates

Interconnection Issues Task Force

• Various dates

For additional meeting information, see: http://www.nyiso.com/public/committees/calendar/index.jsp.

The discussions at each of the meetings described above may address matters at issue in pending proceedings before the Commission including the following:

Docket Nos. EL07-39 and ER08-695, New York Independent System Operator, Inc.

Docket No. EL09-57, Astoria Gas Turbine Power LLC v. New York Independent System Operator, Inc.

Docket No. EL10-033, New York Independent System Operator, Inc.

Docket No. EL10-70, TC Ravenswood, LLC v. New York Independent System Operator, Inc.

Docket No. ER01-3155, New York Independent System Operator, Inc.

Docket Nos. ER01-3001-021/ER03-647-012 and ER01-3001-022/ER03-647-013, New York Independent System Operator, Inc.

Docket No. ER04-449, New York Independent System Operator, Inc.

Docket No. ER04-230, New York Independent System Operator, Inc.

Docket No. ER07-612, New York Independent System Operator, Inc.

Docket No. ER08-850, New York Independent System Operator, Inc.

Docket No. ER08-867, New York Independent System Operator, Inc.

Docket No. ER08-1281, New York Independent System Operator, Inc.

Docket No. ER09-1142, New York Independent System Operator, Inc.

Docket No. ER09-1204, New York Independent System Operator, Inc.

Docket No. ER09-1682, New York Independent System Operator, Inc.

Docket No. ER09-405, New York Independent System Operator, Inc.

Docket No. ER10-65, New York Independent System Operator, Inc.

Docket No. ER10-424, New York Independent System Operator, Inc.

Docket No. ER10-290, New York Independent System Operator, Inc.

Docket No. ER10-554, New York Independent System Operator, Inc.

Docket No. ER10-555, New York Independent System Operator, Inc.

Docket No. ER10-573, New York Independent System Operator, Inc.

Docket No. ER10-1657, New York Independent System Operator, Inc.

Docket No. ER10-1359, New York Independent System Operator, Inc.

Docket No. ER10-2220, New York Independent System Operator, Inc.

Docket No. ER11-2224, New York Independent System Operator, Inc.

Docket No. ER10-3043, New York Independent System Operator, Inc.

Docket No. ER11-2842, New York Independent System Operator, Inc.

Docket No. ER11-2547, New York Independent System Operator, Inc.

Docket No. ER06-1014, New York Independent System Operator, Inc.

Docket No. ER11-1844, New York Independent System Operator, Inc.

Docket No. ER11-2048, New York Independent System Operator, Inc.

Docket No. RM04-7, Market-Based Rates for Wholesale Sales of Electric Energy, Capacity, and Ancillary Services by Public Utilities.

Docket No. RM10-11, Integration of Variable Energy Resources.

Docket No. RM10-15, Mandatory Reliability Standards for Interconnection Reliability Operating Limits.

Docket No. RM10-16, System Restoration Reliability Standards

Docket No. OA08-52, New York Independent System Operator, Inc.

Docket No. OA09-26, New York Independent System Operator, Inc.

The meetings are open to stakeholders. For more information, contact Jesse Hensley, Office of Energy Market Regulation, Federal Energy Regulatory Commission at (202) 502-6228 or Jesse.Hensley@ferc.gov.

Dated: March 9, 2011.
Kimberly D. Bose,
Secretary.

[FR Doc. 2011-6052 Filed 3-15-11; 8:45 am]

BILLING CODE 6717-01-P